DEPARTMENT OF HOMELAND SECURITY

Federal Emergency Management Agency

[Docket ID FEMA-2008-0009]

National Disaster Housing Task Force Concept of Operations

AGENCY: Federal Emergency Management Agency, DHS.

ACTION: Notice of availability; request for comments.

SUMMARY: The Federal Emergency Management Agency (FEMA) is accepting comments on the National Disaster Housing Task Force (NDHTF) Concept of Operations (CONOPS). The CONOPS describes the Federal coordination of disaster housing assistance in preparation for, response to and recovery from all levels of disasters, including catastrophic events. Additionally, it outlines the implementation of the National Disaster Housing Strategy (Strategy).

DATES: Comments must be received by January 10, 2011.

ADDRESSES: Comments must be identified by docket ID FEMA-2008-0009 and may be submitted by one of the following methods:

Federal eRulemaking portal: http://www.regulations.gov. Follow the instructions for submitting comments. Please note that the proposed CONOPS is not a rulemaking and the Federal eRulemaking Portal is being utilized only as a mechanism for receiving comments.

Mail: Office of Chief Counsel, Federal Emergency Management Agency, Room 840, 500 C Street, SW., Washington, DC 20472-3100.

FOR FURTHER INFORMATION CONTACT: Mitchell Wyllins, National Disaster Housing Task Force, Room 428, 500 C Street, SW., Washington, DC 20472-3100, telephone 202-646-3173, and e-mail mailto: NDHTF@dhs.gov.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of http://www.regulations.gov.

You may submit your comments and material by the methods specified under the ADDRESSES caption. Please submit your comments and any supporting material by only one means to avoid the receipt and review of duplicate submissions.

Docket: The proposed CONOPS is available in docket ID FEMA-2008-0009. For access to the docket to read background documents or comments received, go to the Federal eRulemaking Portal at http://www.regulations.gov and search for the docket ID. Submitted comments may also be inspected at FEMA, Office of Chief Counsel, Room 840, 500 C Street, SW., Washington, DC 20472.

II. Background

The NDHTF CONOPS explains the Federal Government's normal disaster housing support role in operational terms, along with the Federal Government's responsibility to maintain readiness to assume a greater role in housing disaster survivors when required. It conveys national guidance, operating principles, and a vision for public (Federal, State, Tribal, local), and individual coordination. It defines the roles, programs, authorities, and responsibilities of all entities, emphasizing the cooperative efforts required for disaster survivors and affected communities to recover from a disaster. Additionally, the CONOPS outlines the national activities that will be pursued in moving toward accomplishing the goals of the Strategy. Implementing the Strategy strengthens the Nation's collective capability and resolve to fulfill all partner responsibilities to the American people in times of disaster or emergency, regardless of cause, scope, or complexity. The CONOPS describes how the NDHTF intends to connect critical programs, based in a wide variety of Federal agency authorities, to produce a unified effort.

Congress mandated that FEMA create the Strategy in the Post-Katrina Emergency Management Reform Act of 2006, Public Law 109-295. The Strategy, published in January 2009 and available at http://www.regulations.gov under docket ID FEMA-2008-0009, frames the full range of options that unified disaster housing efforts should consider to better meet the needs of disaster survivors and affected communities. The Strategy calls for the establishment of the NDHTF to provide a full-time, multi-agency focus on disaster housing related issues, to elevate the significance of disaster housing preparedness in all jurisdictions, and to oversee implementation of the Strategy. Additionally, the Strategy sets the goal of the NDHTF to create this CONOPS through a collaborative process among the various local, State, Tribal, and Federal partners, nongovernmental organizations, and the private sector to meet the needs of all disaster survivors.

Authority: 6 U.S.C. 772; 42 U.S.C. 5121-5207.

Dated: December 3, 2010.
W. Craig Fugate,
Administrator, Federal Emergency Management Agency.

[FR Doc. 2010-30972 Filed 12-8-10; 8:45 am]

BILLING CODE 9111-23-P